LIBRARY OF CONGRESS

Copyright Office

37 CFR Parts 201 and 202

[Docket No. RM 2000-5]

Copyright Rules and Regulations: Copyright, Registration of Claims to Copyright

AGENCY: Copyright Office, Library of Congress.

ACTION: Final rule; technical amendments.

SUMMARY: The Copyright Office has reviewed its regulations and found non-substantive errors in its general copyright provisions and its rules governing registration of claims to copyright. This document contains technical amendments to correct these errors.

EFFECTIVE DATE: June 28, 2000.

FOR FURTHER INFORMATION CONTACT: Marilyn J. Kretsinger, Assistant General Counsel, Copyright GC/I&R, PO Box 70400, Southwest Station, Washington DC 20024. Telephone: (202) 707-8380. Fax: (202) 707-8366.

SUPPLEMENTARY INFORMATION: The Copyright Office recently conducted an extensive review of Parts 201 and 202 of its regulations. This document is published to update and correct minor errors in the text to these parts as published in the Code of Federal Regulations.

List of Subjects

37 CFR Part 201

Copyright.

37 CFR Part 202

Claims, Copyright.

Final Rule

For the reasons set forth in the preamble, 37 CFR Chapter II is amended by making the following corrections and amendments:

PART 201—GENERAL PROVISIONS

1. The authority citation for Part 201 continues to read as follows:

Authority: 17 U.S.C. 702.

§ 201.1 [Amended]

2. In § 201.1, paragraph (a) remove the “.” (period) after “SE”.

3. In § 201.1, paragraphs (c) and (d) are revised to read as follows:

§ 201.1 Communications with the Copyright Office.

* * * * *

(c) Copies of records or deposits. Requests for copies of records or deposits should be addressed to the Library of Congress, Copyright Office, Certifications and Documents Section, LM-402, 101 Independence Avenue, SE, Washington, DC 20559-6000.

(d) Search of records. Requests for searches of registrations and recordations in the completed catalogs, indexes, and other records of the Copyright Office should be addressed to the Library of Congress, Copyright Office, Reference and Bibliography Section, LM-450, 101 Independence Avenue, SE, Washington, DC 20559-6000.

§ 201.3 [Amended]

4. In § 201.3(d)(11)(v), remove the “.” (period) after the “:” (colon).

5. In the heading to the table in § 201.3(e), remove “division” and add “Division” in its place.

§ 201.4 [Amended]

6. In § 201.4(a)(1)(iv), revise “17 U.S.C” to read “17 U.S.C.”.

7. In § 201.4(c)(2)(ii), add “title” after “recordable under this”.

8. In § 201.4(a)(1), (2) and (3)(i), remove “Title” and add “title” in its place.

9. In § 201.4, paragraph (d) is revised to read as follows:

§ 201.4 Recordation of transfers and certain other documents.

* * * * *

(d) Fees. The fees for recordation of a document are prescribed in § 201.3(c).

* * * * *

§ 201.5 [Amended]

10.-11. In § 201.5(c)(1)(viii)(C), add a “,” (comma) after “other copyright claimant.”

12. In § 201.5(c)(2), remove “.” (period) after “SE”.

§ 201.7 [Amended]

13. In § 201.7(c)(4)(iii), remove the excess space after “(iii)”.

14. In § 201.7(c)(4)(ix), add a “,” (comma) after “January 1, 1978”.

15. In § 201.7(d), add a “,” (comma) after “information or deposit copy”.

§ 201.25 [Amended]

16. In § 201.25(d), remove “statement” after “Visual Arts Registry” and add “Statement” in its place.

17. In § 201.25(f), add the heading “Effect of recordation.”

§ 201.26 [Amended]

18. In § 201.26(g)(3), add “-4260” after “20540”.

§ 201.35 [Amended]

19. In § 201.35(f), remove the period “.” after “SE”.

§ 201.36 [Amended]

20. In § 201.36(c), last sentence, (f) and (g) introductory text, remove “use” after “Reports of” and add “Use” in its place.

§ 201.37 [Amended]

21. In the heading to § 201.37(b), add an “s” to the word “Definition”.

PART 202—REGISTRATION OF CLAIMS TO COPYRIGHT

22. The authority citation for Part 202 continues to read as follows:

Authority: 17 U.S.C. 408, 702.

§ 202.3 [Amended]

23. In § 202.3(b)(3)(i)(A), remove “A” and add “a” after “published works:”.

§ 202.17 [Amended]

24. In § 202.17(g)(2)(i), remove “duty” and add “duly” in its place.

§ 202.23 [Amended]

25. In § 202.23(d), add “or” after “deposit made on”; add a “,” (comma) after “1978”.

Dated: June 20, 2000.
Marilyn J. Kretsinger,
Assistant General Counsel.

[FR Doc. 00-16240 Filed 6-27-00; 8:45 am]

BILLING CODE 1410-30-P